FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 11, 2016.

A. Federal Reserve Bank of Minneapolis (Jacquelyn K. Brunmeier, Assistant Vice President) 90 Hennepin Avenue, Minneapolis, Minnesota 55480-0291:

1. Brian Scott Curb, Bemidji, MN; Melisa A. Bruns, Bemidji, MN; Ronald R. Cuperus, Bemidji, MN; Dean J. Thompson, Bemidji, MN; Glen T. Lindseth, Bemidji, MN; Mary Karen Bellmont Revocable Trust (Mary Karen Bellmont, trustee), St. Cloud, MN; Robert C. Welle Living Trust (Robert C. Welle, trustee), Saint Paul, MN; John P. Welle, Granger, IN; Mary Kay Welle, Granger, IN; Margaret M. Sitzer Revocable Trust (Margaret M. Sitzer, trustee), Rochester, MN; Patrick G. Welle, Bemidji, MN; Peter T. Welle, Washington, DC; Susan M. Stromberg, Colorado Springs, CO; Michael M. Stromberg, Colorado Springs, CO; David M. Stromberg, Grand Forks, ND; Brian W. Stromberg, Grand Forks, ND; Megan E. Stromberg, Grand Forks, ND; Theresa A. Welle, Waite Park, MN; Mary J. Welle Marvin, Warroad, MN; Conway A. Marvin, Warroad, MN; Nicholas A. Marvin, Warroad, MN; Ryan W. Marvin, Minneapolis, MN; Laura J. Marvin Nelson, Eden Prairie, MN; Jackelyn L. Marvin, Bemidji, MN; Christian D. Welle, Bemidji, MN; Amanda B. Welle, New York, NY; Jamie M. Welle, Lonsdale, MN; Samantha J. Baker, Bemidji, MN; Joseph W. Welle, Bloomington, MN; Katherine L. Canfield, Pinehurst, NC; Brian T. Canfield, Pinehurst, NC; William RW Canfield, Pinehurst, NC; Sarah J. Anderla, Appleton, WI; David Anderla, Appleton, WI; Drew B. Anderla, Appleton, WI; and Sarah J. Anderla, as custodian for Grant T. Anderla, Appleton, WI, and as custodian for Elena J. Anderla, Appleton, WI; for retroactive approval to join the Welle family shareholder group that controls 25 percent or more of the voting shares of First Bemidji Holding Company, Bemidji, Minnesota, and thereby indirectly controls The First National Bank of Bemidji, Bemidji, Minnesota.

Board of Governors of the Federal Reserve System, June 20, 2016.
Michele Taylor Fennell,
Assistant Secretary of the Board.

[FR Doc. 2016-14861 Filed 6-22-16; 8:45 am]

BILLING CODE 6210-01-P